DEPARTMENT OF HEALTH AND HUMAN SERVICES

Food and Drug Administration

Women's Health Initiative Subcommittee of the Advisory Committee for Reproductive Health Drugs; Notice of Postponement of Meeting

AGENCY: Food and Drug Administration, HHS.

ACTION: Notice.

SUMMARY: The Food and Drug Administration (FDA) is postponing the meeting of the Women's Health Initiative Subcommittee of the Advisory Committee for Reproductive Health Drugs scheduled for November 12 and 13, 2002. The meeting was announced in the Federal Register of October 21, 2002 (67 FR 64651). FDA's Center for Drug Evaluation and Research is going to evaluate additional data relevant to the topic. Future meeting dates will be announced in the Federal Register.

FOR FURTHER INFORMATION CONTACT: Jayne E. Peterson, Center for Drug Evaluation and Research (HFD-21), Food and Drug Administration, 5600 Fishers Lane, Rockville, MD 20857, 301-827-7001, FAX 301-827-6776, or e-mail: PETERSONJ@CDER.FDA.GOV, or FDA Advisory Committee Information Line, 1-800-741-8138 (301-443-0572 in the Washington, DC area), code 12537. Please call the Information Line for up-to-date information on this meeting.

Dated: October 24, 2002.
LaJuana D. Caldwell,
Acting Senior Associate Commissioner for External Relations.

[FR Doc. 02-27884 Filed 10-31-02; 8:45 am]

BILLING CODE 4160-01-S